NATIONAL ARCHIVES AND RECORDS ADMINISTRATION

36 CFR Part 1253

RIN 3095-AB08

NARA Facilities; Addresses and Hours

AGENCY: National Archives and Records Administration (NARA).

ACTION: Final rule.

SUMMARY: The National Archives and Records Administration is amending its regulation that lists NARA facilities and hours when the public and other Federal agency staff may use the records in those facilities. This final rule includes corrections to email addresses for the Presidential libraries, corrections to phone and fax numbers, and in some cases, modifies the hours that these facilities are open for research. In addition, NARA is also implementing a uniform policy on research room facility closings for Federal holidays in order to standardize them throughout NARA. This final rule affects members of the public who do research at NARA facilities.

EFFECTIVE DATE: June 27, 2002.

FOR FURTHER INFORMATION CONTACT: Kim Richardson at telephone number 301-713-7360, ext. 240, or fax number 301-713-7270.

SUPPLEMENTARY INFORMATION: The proposed rule was published in the April 15, 2002, Federal Register (67 FR 18146) for a 60-day comment period. NARA did not receive any comments.

This rule is effective upon publication for “good” cause as permitted by the Administrative Procedure Act (5 U.S.C. 553(d)(3)). NARA believes that delaying the effective date for 30 days is unnecessary as this rule represents minor technical amendments. Moreover, as the public benefits immediately being provided with corrections to email addresses for the Presidential libraries, phone and fax numbers, and in some cases, modifications to the hours that these facilities are open for research, any delay in the effective date would be contrary to the public interest.

This rule is not a significant regulatory action for the purposes of Executive Order 12866 and has not been reviewed by the Office of Management and Budget. As required by the Regulatory Flexibility Act, I certify that this rule will not have a significant impact on a substantial number of small entities. This regulation does not have any federalism implications.

List of Subjects in 36 CFR Part 1253

Archives and records.

For the reasons set forth in the preamble, NARA amends part 1253 of title 36, Code of Federal Regulations, chapter XII, as follows:

PART 1253—LOCATION OF RECORDS AND HOURS OF USE

1. The authority citation for Part 1253 continues to read as follows:

Authority: 44 U.S.C. 2104(a).

2. Amend § 1253.3 by revising paragraphs (a) through (j) to read as follows:

§ 1253.3 Presidential Libraries.

* * * * *

(a) Herbert Hoover Library is located at 210 Parkside Dr., West Branch, IA (mailing address: PO Box 488, West Branch, IA 52358-0488). The phone number is 319-643-5301 and the fax number is 319-643-5825. The e-mail address is hoover.library@nara.gov.

(b) Franklin D. Roosevelt Library is located at 4079 Albany Post Rd., Hyde Park, NY 12538-1999. The phone number is 845-229-8114 and the fax number is 845-229-0872. The e-mail address is roosevelt.library@nara.gov.

(c) Harry S. Truman Library is located at 500 W. US Hwy 24, Independence, MO 64050-1798. The phone number is 816-833-1400 and the fax number is 816-833-4368. The e-mail address is truman.library@nara.gov.

(d) Dwight D. Eisenhower Library is located at 200 SE Fourth Street, Abilene, KS 67410-2900. The phone number is 785-263-4751 and the fax number is 785-263-4218. The e-mail address is eisenhower.library@nara.gov.

(e) John Fitzgerald Kennedy Library is located at Columbia Point, Boston, MA 02125-3398. The phone number is 617-929-4500 and the fax number is 617-929-4538. The e-mail address is kennedy.library@nara.gov.

(f) Lyndon Baines Johnson Library is located at 2313 Red River St., Austin, TX 78705-5702. The phone number is 512-916-5137 and the fax number is 512-916-5171. The e-mail address is johnson.library@nara.gov.

(g) Gerald R. Ford Museum is located at 303 Pearl St., Grand Rapids, MI 49504-5353. The phone number is 616-451-9263 and the fax number is 616-451-9570. The e-mail address is ford.museum@nara.gov. Gerald R. Ford Library is located at 1000 Beal Avenue, Ann Arbor, MI 48109-2114. The phone number is 734-741-2218 and the fax number is 734-741-2341. The e-mail address is ford.library@nara.gov.

(h) Jimmy Carter Library is located at 441 Freedom Parkway, Atlanta, GA 30307-1498. The phone number is 404-331-3942 and the fax number is 404-730-2215. The e-mail address is carter.library@nara.gov.

(i) Ronald Reagan Library is located at 40 Presidential Dr., Simi Valley, CA 93065-0699. The phone number is 800-410-8354 or 805-522-8444 and the fax number is 805-522-9621. The e-mail address is reagan.library@nara.gov.

(j) George Bush Library is located at 1000 George Bush Drive West, College Station, TX 77845. The phone number is 979-260-9554 and the fax number is 979-260-9557. The e-mail address is bush.library@nara.gov.

3. Revise § 1253.5 to read as follows:

§ 1253.5 National Personnel Records Center.

(a) Military Personnel Records. NARA—National Personnel Records Center—Military Personnel Records is located at 9700 Page Ave., St. Louis, MO 63132-5100. The hours are 7:30 a.m. to 3:45 p.m., Monday through Friday, except Federal holidays.

(b) Civilian Personnel Records. NARA—National Personnel Records Center—Civilian Personnel Records is located at 111 Winnebago St., St. Louis, MO 63118-4199. The hours are 7:30 a.m. to 3:45 p.m., Monday through Friday, except Federal holidays.

4. Amend § 1253.6 by revising paragraphs (a) through (f), and (h) through (l) to read as follows:

§ 1253.6 Records Centers.

* * * * *

(a) NARA—Northeast Region (Boston) is located at the Frederick C. Murphy Federal Center, 380 Trapelo Rd., Waltham, MA 02452-6399. The hours are 8 a.m. to 4:30 p.m., Monday through Friday. The telephone number is 781-647-8104.

(b) NARA—Northeast Region (Pittsfield, MA) is located at 10 Conte Drive, Pittsfield, MA 01201-8230. The hours are 8 a.m. to 4:30 p.m., Monday through Friday. The telephone number is 413-445-6885.

(c) NARA—Mid Atlantic Region (Northeast Philadelphia) is located at 14700 Townsend Rd., Philadelphia, PA 19154-1096. The hours are 8 a.m. to 4:30 p.m., Monday through Friday. The telephone number is 215-671-9027.

(d) NARA—Southeast Region (Atlanta) is located at 1557 St. Joseph Ave., East Point, GA 30344-2593. The hours are 7 a.m. to 4 p.m., Monday through Friday. The telephone number is 404-763-7474.

(e) NARA—Great Lakes Region (Dayton) is located at 3150 Springboro Rd., Dayton, OH 45439-1883. The hours are 7 a.m. to 4:30 p.m., Monday through Friday. The telephone number is 937-225-2852.

(f) NARA—Great Lakes Region (Chicago) is located at 7358 S. Pulaski Rd., Chicago, IL 60629-5898. The hours are 8 a.m. to 4:30 p.m., Monday through Friday. The telephone number is 773-581-7816.

* * * * *

(h) NARA—Central Plains Region (Lee's Summit, MO) is located at 200 Space Center Drive, Lee's Summit, MO 64064-1182. The hours are 8 a.m. to 4 p.m., Monday through Friday. The telephone number is 816-823-6272.

(i) NARA—Southwest Region (Fort Worth) is located at 501 West Felix St., Bldg. 1, Fort Worth, TX (mailing address: P.O. Box 6216, Fort Worth, TX 76115-0216). The hours are 8 a.m. to 2:00 p.m., Monday through Friday. The telephone number is 817-334-5515.

(j) NARA—Rocky Mountain Region (Denver) is located at Building 48, Denver Federal Center, West 6th Ave. and Kipling Street, Denver, CO (mailing address: PO Box 25307, Denver, CO 80225-0307). The hours are 7:30 a.m. to 4 p.m., Monday through Friday. The telephone number is 303-236-0804.

(k) NARA—Pacific Region (San Francisco) is located at 1000 Commodore Dr., San Bruno, CA 94066-2350. The hours are 7:30 a.m. to 4 p.m., Monday through Friday. The telephone number is 650-876-9001.

(l) NARA—Pacific Region (Laguna Niguel, CA) is located at 24000 Avila Rd., 1st Floor East Entrance, Laguna Niguel, CA (mailing address: PO Box 6719, Laguna Niguel, CA 92607-6719). The hours are 8 a.m. to 4:30 p.m., Monday through Friday. The telephone number is 949-360-2626.

* * * * *

5. Amend § 1253.7 by revising paragraphs (b), (d), (g), (h), and (i) to read as follows:

§ 1253.7 Regional Archives.

* * * * *

(b) NARA—Northeast Region (Pittsfield, MA) is located at 10 Conte Drive, Pittsfield, MA 01201-8230. The hours are 8 a.m. to 4:30 p.m., Monday through Friday. The telephone number is 413-445-6885.

* * * * *

(d) NARA—Mid Atlantic Region (Center City Philadelphia) is located at 900 Market St., Philadelphia, PA 19107-4292. The hours are 8 a.m. to 5 p.m., Monday through Friday. The telephone number is 215-597-3000.

* * * * *

(g) NARA—Central Plains Region (Kansas City) is located at 2312 E. Bannister Rd., Kansas City, MO 64131-3060. The hours are 7:30 a.m. to 4 p.m., Monday through Friday. The telephone number is 816-926-6920.

(h) NARA—Southwest Region (Fort Worth) is located at 501 West Felix St., Bldg. 1, Dock 1, Fort Worth, TX (mailing address: P.O. Box 6216, Fort Worth, TX, 76115-0216). The hours are 6:30 a.m. to 4 p.m., Monday through Friday. The telephone number is 817-334-5525.

(i) NARA—Rocky Mountain Region (Denver) Textual Research room is located at Building 48, Denver Federal Center, West 6th Ave. and Kipling Street, Denver, CO. The Microfilm Research room is located at Building 46, Denver Federal Center, West 6th Ave. and Kipling Street, Denver, CO. (The mailing address: PO Box 25307, Denver, CO 80225-0307). The hours are 7:30 a.m. to 3:45 p.m., Monday through Friday. The telephone number is 303-236-0817.

* * * * *

6. Add § 1253.8 to read as follows:

§ 1253.8 Are NARA research room facilities closed on Federal holidays?

(a) NARA research room facilities are closed on all Federal holidays.

(b) When a Federal holiday is on a Saturday but the official observance is on the preceding Friday, the research rooms that are normally open on Saturday will be closed on the Saturday as well as the Friday.

Dated: June 21, 2002.
John W. Carlin,
Archivist of the United States.

[FR Doc. 02-16166 Filed 6-26-02; 8:45 am]

BILLING CODE 7515-01-P